DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before January 10, 2018.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on December 5, 2017.
Donald Burger,
Chief, General Approvals and Permits Branch.

Application No. | Docket No. | Applicant | Regulation(s) affected | Nature of the special permits thereof
SPECIAL PERMITS DATA
7573-M |  | DEPARTMENT OF DEFENSE (MILITARY SURFACE DEPLOYMENT & DISTRIBUTION COMMAND) | Parts 172 and 175 | To modify the special permit to authorize the use of commercial airfields outside of CONUS in accordance with AFMAN 24-204 and Defense Transportation Regulations (DTR).
20352-M |  | SCHLUMBERGER TECHNOLOGY CORP | 173.301(f), 173.302(a), 173.304(a), 173.304(d), 173.201(c), 173.202(c), 173.203(c) | To modify the special permit to authorize cargo only aircraft transportation and to include additional testing requirements.
20353-N |  | ACCURAY INCORPORATED | 173.302(a), 175.3, 172.400, 172.301(c) | To authorize the transportation in commerce of Xenon gas in a non-DOT specification container (detector), either shipped alone or as an integral part of a gantry assembly.
20380-N |  | WESTERN INTERNATIONAL GAS & CYLINDERS, INC | 172.101 | To authorize the transportation in commerce of acetylene that is not dissolved in a solvent.
20385-N |  | CMV SRL | 173.302(a), 173.304(a) | To authorize the manufacture, mark, sale and use of non-DOT specification cylinders that meet the ISO 9809-2:2010 standard except for the design water capacity.
20395-N |  | CARLETON TECHNOLOGIES, INC | 173.304(a), 180.207 | To authorize the manufacture, mark, sale and use of a non-DOT specification fully wrapped carbon- fiber reinforced, aluminum-lined composite cylinders conforming to ISO Standard 11119-2, except as specified herein, for the transportation in commerce of Division 2.1 and 2.2 hazardous materials.
20455-N |  | LUXFER INC | 180.205, 173.302(a) | To authorize the manufacture, mark, sale and use of a non-DOT specification fully wrapped carbon fiber composite cylinder with a load sharing aluminum liner for the transport of the hazardous materials authorized in this special permit.
20481-N |  | ADVANCED GREEN INNOVATIONS, LLC | 173.212 | To authorize the manufacture, mark, sale, and use of non-DOT specification pressure vessels for the transportation of certain Division 4.2 materials.
20490-N |  | ROTAK LLC | 172.101(j), 172.200, 172.204(c)(3), 172.301(c), 175.30(a)(1), 175.75, 173.27(b)(2) | To authorize the transportation in commerce of certain hazardous materials which are forbidden for transportation by air or exceed quantity limitations, to be transported by cargo aircraft either inside the aircraft or in external load configuration within the state of Alaska and the 48 contiguous states when other means of transportation are impracticable or not available.
20491-N |  | ROTAK LLC | 172.101(j), 172.204(c)(3), 172.301(c), 175.30(a)(1), 175.75, 173.27(b)(2) | To authorize the transportation in commerce of certain class 1 hazardous materials which are forbidden for transportation by air, to be transported in Part 133 rotorcraft external load operations attached to or suspended from an aircraft, in remote areas of the State of Alaska and the contiguous 48 states, without being subject to hazard communication requirements, quantity limitations and certain loading and stowage requirements.
20502-N |  | SPENCER COMPOSITES CORPORATION | 173.302(a), 173.304(a) | To authorize the manufacture, mark, sale and use of non-DOT specification subsea sampling cylinders (similar to oil well sampling cylinders) without pressure relief device(s).
20503-N |  | DYNO NOBEL INC | 177.835(a), 177.835(c)(3), 177.848(e)(2), 177.848(g)(3) | To authorize the transportation in commerce of certain oxidizing materials by motor vehicle in accordance with International Makers of Explosives Safety Library Publication (IME SLP) 23 incorporated by reference.
20511-N |  | ARMOTECH s.r.o | 173.301(a)(1), 173.302(a)(1), 173.302(f)(1), 173.302(f)(2), 178.71(q), 178.71(t) | To authorize the transportation in commerce of non-DOT specification cylinders containing oxygen.
20517-N |  | ADVANCE RESEARCH CHEMICALS, INC | 173.205 | To authorize the transportation in commerce cylinders containing Iodine Pentafluoride UN 2495 to be imported from India.
20528-N |  | TRIEST AG GROUP, INC | 180.205(g) | To authorize the use of the proof pressure test in lieu of the volumetric expansion test as the method of requalifying DOT-4BW240 cylinders.
20538-N |  | AXELA MEDICAL SUPPLIES | 173.13 | To authorize the transportation in commerce of corrosive liquids without being labeled.
20540-N |  | LINDE GAS NORTH AMERICA LLC | 173.163(b) | To authorize the transportation in commerce of DOT specification 3A and 3AA cylinders containing certain hazardous materials after previously containing hydrogen fluoride.
20556-N |  | SAFT AMERICA INC | 172.101(j) | To authorize the transportation in commerce of lithium ion batteries in excess of 35 kg by cargo-only aircraft.
20557-N |  | XCALIBUR LOGISTICS, LLC | 180.407(b)(5), 180.407(c), 180.407(c) | To authorize the transportation in commerce of petroleum crude oil in cargo tanks which are overdue for inspection.
20575-N |  | WORTHINGTON CYLINDER CORPORATION | 173.302 | To authorize the manufacture, mark, sale, and use of non-DOT specification cylinders.
20580-N |  | MID ATLANTIC REGION MAINT | 107.805(c)(1), 107.805(c)(2) | To modify the special permit to include new users.
20585-N |  | ATLAS AIR, INC | 172.101(j), 172.204(c)(3), 173.27(b)(2), 173.27(b)(3), 175.30(a)(1) | To authorize the transportation in commerce of explosives by cargo only aircraft in amounts forbidden by the regulations.
20586-N |  | HAZ-MAT RESPONSE, INC. | Parts 171-180 | To authorize the transportation in commerce of non-DOT specification cylinders for a limited distance to safely analyze the contents and prepare for shipment in accordance with the HMR.

[FR Doc. 2017-26598 Filed 12-8-17; 8:45 am]

BILLING CODE 4901-60-P